FEDERAL COMMUNICATIONS COMMISSION

47 CFR Part 73

[DA 06-265; MB Docket No. 04-426, RM-11125]

Radio Broadcasting Services; Beaumont and Mont Belvieu, TX

AGENCY: Federal Communications Commission.

ACTION: Final rule, correction.

SUMMARY: The Federal Communications Commission published in the Federal Register, of February 22, 2006, a document which allotted Channel 248C from Beaumont to Mont Belvieu, Texas, as that community's first local FM service and modified the Station KRWP(FM) license accordingly. See 71 FR 8988. The document designation number was inadvertently listed in the headings section as DA 06-625. This document corrects the document designation number from DA 06-625 to DA 06-265.

DATES: Effective March 8, 2006.

FOR FURTHER INFORMATION CONTACT: Victoria M. McCauley, Media Bureau, (202) 418-2180.

SUPPLEMENTARY INFORMATION: The FCC published a document in the Federal Register of February 22, 2006, (71 FR 8988), allotting Channel 248C from Beaumont to Mont Belvieu, Texas, as that community's first local FM service and modifying the Station KRWP(FM) license accordingly. In FR Doc. 06-1526, published in the Federal Register of February 22, 2006, (71 FR 8988), the document designation number was inadvertently listed as DA 06-625. This document corrects the document designation number from DA 06-625 to DA 06-265.

In rule FR Doc. 06-1526 published on February 22, 2006, (71 FR 8988) make the following correction. On page 8988, in the third column, in the headings section, the document designation number is corrected to read DA 06-265.

Federal Communications Commission.
John A. Karousos,
Assistant Chief, Audio Division, Media Bureau.

[FR Doc. 06-2086 Filed 3-7-06; 8:45 am]

BILLING CODE 6712-01-P